DEPARTMENT OF AGRICULTURE

Forest Service

Notice of New Fee Sites

AGENCY: Forest Service, USDA.

ACTION: Notice of new fee sites.

SUMMARY: The Kisatchie National Forest is proposing to begin charging fees. Funds from the new fees will help the Kisatchie National Forest maintain the sites and boat launches at the level and quality visitors have come to expect. People are invited to comment on these proposed fee changes.

DATES: Comments on the fee changes will be accepted through August 15, 2019. The fees will become available pending a recommendation from the Southern Region Recreation Resource Advisory Committee. If approved by the Regional Forester, the Forest Service will implement the fee changes in 2020.

ADDRESSES: Written comments concerning this notice should be addressed to the Supervisor's Office at: Stacy Blomquist, Public Affairs Specialist, Kisatchie National Forest, 2500 Shreveport Hwy, Pineville, Louisiana, 71360.

FOR FURTHER INFORMATION CONTACT: Stacy Blomquist, Public Affairs Specialist, Kisatchie National Forest by phone at (318) 473-7242 or via email at stacy.blomquist@usda.gov.

SUPPLEMENTARY INFORMATION: The Federal Recreation Lands Enhancement Act (Title VII, Pub. L. 108-447) directed the Secretary of Agriculture to publish a six month advance notice in the Federal Register whenever new recreation fee areas are established.

The Kisatchie National Forest is proposing to begin charging fees at the following sites:

• Caney Ranger District: Corney Lake Boat Launch—$5.00/vehicle/day

• Kisatchie Ranger District: Oak Camp—$10.00/single site/night

• Winn Ranger District: Cloud Crossing Campground—$10.00/single site/night

The Kisatchie National Forest currently has 14 campgrounds where fees are collected. Oak Camp on the Kisatchie Ranger District offers amenities that support the $10 per night fee and is consistent with the other campgrounds in the district. Cloud Crossing Campground located on Saline Bayou, a designated national scenic river, offers amenities that support the $10 per night fee as both reasonable and acceptable for this recreation experience.

Currently there are five boat launches where fees are collected. The Corney Lake Boat Launch of $5.00/vehicle/day is consistent with other boat launch fees throughout the Kisatchie National Forest.

Prior to these fees being implemented, the Kisatchie National Forest will present this proposal to the Southern Region Recreation Resource Advisory Committee. The Federal Lands Recreation Enhancement Act requires a recommendation from the Southern Region Recreation Resource Advisory Committee prior to a decision and implementation.

Dated: July 8, 2019.
Richard A. Cooksey,
Acting Associate Deputy Chief, National Forest System.

[FR Doc. 2019-16281 Filed 7-30-19; 8:45 am]

BILLING CODE 3411-15-P